DEPARTMENT OF TRANSPORTATION

Federal Railroad Administration

[Docket Number FRA-2005-21015]

Notice of Request for Reduction in Scope of Application for Approval of Discontinuance or Modification of a Railroad Signal System and Extension of Comment Period

The Central New York Railroad Corporation, Norfolk Southern Corporation, and New York, Susquehanna and Western Railway Corporation have jointly petitioned the Federal Railroad Administration (FRA) requesting a reduction in scope of their original block signal application identified as Docket Number FRA-2005-21015. The joint application is now seeking approval of the proposed discontinuance and removal of the automatic block signal systems, on the two main tracks, between CP Coles, milepost 209.5 and CP BD, milepost 213.0, near Binghamton, New York, a distance of approximately 3.5 miles.

FRA has conducted its own investigation and held a public hearing on September 28, 2005. At this public hearing the involved railroads requested a reduction in scope of the application. In an effort to allow interested parties an opportunity to comment on this reduction in scope of the original application, FRA is extending the comment period in this matter to November 9, 2005.

FRA expects to be able to determine this matter without further oral hearings. FRA may conduct additional oral hearings if a specific request is received. However, any such request for an oral hearing must be accompanied by specific documentation establishing that the party is unable to adequately present his or her position by written statements.

All communications concerning this proceeding should be identified by the docket number (FRA-2005-21015) and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Issued in Washington, DC on October 6, 2005.
Grady C. Cothen, Jr.,
Deputy Associate Administrator for Safety, Standards and Program Development.

[FR Doc. 05-20832 Filed 10-17-05; 8:45 am]

BILLING CODE 4910-06-P